DEPARTMENT OF THE INTERIOR

Bureau of Reclamation

[FES-00-29]

CALFED Bay-Delta Program, California

AGENCY: Bureau of Reclamation, Interior.

ACTION: Notice of availability of the Final Programmatic Environmental Impact Statement/Environmental Impact Report (Final Programmatic EIS/EIR).

SUMMARY: Pursuant to the National Environmental Policy Act of 1969, as amended, and the California Environmental Quality Act, the Bureau of Reclamation, U.S. Fish and Wildlife Service, National Marine Fisheries Service, Environmental Protection Agency, Natural Resources Conservation Service, Army Corps of Engineers, and the California Resources Agency, as joint lead agencies, have prepared a Final Programmatic EIS/EIR for the CALFED Bay-Delta Program. The CALFED Bay-Delta Program is a cooperative effort of 18 State and Federal agencies with regulatory and management responsibilities in the San Francisco Bay-Sacramento/San Joaquin River Bay-Delta to develop a long-term plan to restore ecosystem health and improve water management for beneficial uses of the Bay-Delta system. This Final Programmatic EIS/EIR is a result of this collaborative planning process and identifies comprehensive solutions to the problems of ecosystem quality, water supply reliability, water quality, and Delta levee and channel integrity. The Final Programmatic EIS/EIR identifies four alternatives including a preferred alternative, to implement these solutions and programmatically analyzes the environmental impacts of each of those alternatives.

DATES: The lead agencies will not make a decision on the proposed action until 30 days after release of the Final Programmatic EIS/EIR. After the 30-day waiting period, the lead agencies will complete a Record of Decision (ROD). The ROD will state the action that will be implemented and will discuss all factors leading to the decision.

ADDRESSES: To request printed or electronic copies of the Final Programmatic EIS/EIR or for additional information, contact Mr. Rick Breitenbach, CALFED Bay-Delta Program, 1416 Ninth Street, Suite 1155, Sacramento, California 95814, telephone: (800) 900-3587. See the Supplementary Information section for a listing of the available documents and formats in which they may be obtained. Copies of the Final Programmatic EIS/EIR are also available for public inspection and review. These locations are listed in the Supplementary Information section.

FOR FURTHER INFORMATION CONTACT: Mr. Rick Breitenbach, CALFED Bay-Delta Program, telephone: (800) 900-3587.

SUPPLEMENTARY INFORMATION:

Available Formats

1. CALFED Bay-Delta Program Website: http://calfed.ca.gov—The Final Programmatic EIS/EIR is posted on the CALFED website. The website also provides several other documents released by CALFED since August 1996. Sections or pages of all these documents can be copied and pasted into any word processing application or e-mail to make reviewing and sharing the documents easier and faster.

2. CD-ROM—The CD-ROM contains all of the documents listed below. The CD-ROM is easy to use and indexed for easy navigation. The software required to view the documents is free and included with instructions on the CD. The search capability is one of the CD's most desirable features. For example, if you enter a word, such as “watershed,” the search function will find every reference to “watershed” in the document. The complete document, or portions of it, can be copied or printed from the CD.

3. Printed Documents—The Final Programmatic EIS/EIR and appendices are printed in 18 individual volumes totaling approximately 6,200 pages. Either individual documents or the entire package can be requested. The following documents are part of the Final Programmatic EIS/EIR package:

• Final Programmatic EIS/EIR Main Document (Impact Analysis)

• Executive Summary of the Final Programmatic Environmental Impact Statement/Environmental Impact Report

• Phase II Report

• Implementation Plan

• Response to Comments Document, 3 Volumes

• Ecosystem Restoration Program Plan, 3 Volumes

• Levee System Integrity Program Plan

• Water Quality Program Plan

• Water Use Efficiency Program Plan

• Water Transfer Program Plan

• Watershed Program Plan

• Multi-species Conservation Strategy

• Comprehensive Monitoring Assessment and Review Program Report

Copies of the Final Programmatic EIS/EIR are available for public inspection at:

• Bureau of Reclamation, Office of Policy, Room 7456, 1849 C Street, NW, Washington DC; telephone: (202) 208-4662.

• Bureau of Reclamation, Denver Office Library, Building 67, Room 167, Denver Federal Center, 6th and Kipling, Denver CO; telephone: (303) 445-2072.

• Bureau of Reclamation, Public Affairs Office, 2800 Cottage Way, Sacramento CA; telephone: (916) 978-5100.

• Natural Resources Library, U.S. Department of the Interior, 1849 C Street, NW, Main Interior Building, Washington DC.

Copies will also be available for inspection at the following libraries:

Amador County Library; Auburn-Placer County Library; Berkeley Public Library; Butte County Library; Calaveras County Library; California State Archives; California State Library; California State Polytechnic University, Pomona; California State Resources Library; California State University, Bakersfield; California State University, Chico; California State University, Fresno; California State University, Long Beach; California State University, Sacramento; California State University, San Diego; California State University, San Francisco; California State University, San Jose; California State University, Stanislaus; Colusa County Free Library; Contra Costa County Library; The Council of State Governments; County of Los Angeles Public Library, Government Publications; County of Los Angeles Public Library, Lancaster Library; Dixon Unified School District Library; El Dorado County Library; Fresno County Public Library; Golden Gate University; Grass Valley Library, Nevada County Library; Humboldt County Library; Inyo County Free Library; Kern County Library; Kings County Library; Lake County Library; Library of Congress; Lodi Public Library; Los Angeles County Law Library; Los Angeles Public Library; Los Banos Branch Library, Merced County Library; Madera County Library; Marin County Library; Mariposa County Library; Mendicino County Library; Merced County Library; Mono County Free Library; Monterey County Free Libraries; Napa City-County Library; Natural Resources Library; Nevada County Library; Oakland Public Library; Orange County Public Library; Orland Free Library; Plumas County Library; Quincy Library; Sacramento County Law Library; Sacramento Public Library; San Diego County Library; San Diego Public Library; San Diego State University, Malcolm A. Love Library; San Francisco Public Library; San Jose Public Library; San Luis Obispo City-County Library; Santa Barbara Public Library; Santa Clara County Library; Santa Cruz Public Library; Shasta County Library; Solano County Library; Sonoma County Library; Stanford University, Green Library; Stanislaus County Free Library; Stockton-San Joaquin County Public Library; Sutter County Library; Tehama County Library; Tulare County Free Library; Tulare Public Library; Tuolumne County Free Library; University of California, Berkeley; University of California, Davis, Shields Library; University of California, Los Angeles, Bruman Library; University of California, San Diego; University of California, Santa Barbara; Willows Public Library; Yolo County Library; Yuba County Library.

Dated: July 12, 2000.
John F. Davis,
Acting Regional Director.

[FR Doc. 00-18240 Filed 7-19-00; 8:45 am]

BILLING CODE 4310-MN-P